DEPARTMENT OF TRANSPORTATION

Federal Aviation Administration

Commercial Space Transportation Advisory Committee; Public Teleconference

AGENCY: Federal Aviation Administration (FAA), DOT.

ACTION: Notice of Commercial Space Transportation Advisory Committee Risk Management Working Group Teleconference.

SUMMARY: Pursuant to Section 10(a)(2) of the Federal Advisory Committee Act (Pub. L. 92-463, 5 U.S.C. App. 2), notice is hereby given of a teleconference of the Commercial Space Transportation Advisory Committee (COMSTAC) Risk Management Working Group. The teleconference will take place on Tuesday, January 24, 2012, starting at 1:30 p.m. Eastern Standard Time. Individuals who plan to participate should contact Susan Lender, Designated Federal Officer (DFO), (the Contact Person listed below) by phone or email for the teleconference call in number. The National Aeronautics and Space Administration (NASA) and the FAA Office of Commercial Space Transportation (AST) have agreed to prepare a study on the availability of commercial insurance sufficient to meet the needs of NASA's Commercial Crew Program commercial providers for missions transporting NASA astronauts to and from the International Space Station. NASA's Commercial Crew Program requested this study (via a signed memorandum of understanding with the FAA AST) be conducted by AST because of its knowledge and resources in the commercial space industry.

The purpose of the teleconference is to:

1. Brief the COMSTAC Risk Management Working Group on the study,

2. Request assistance from the working group in preparing a response to NASA, and

3. Respond to any questions from the working group on the nature of this task.

Interested members of the public may submit relevant written statements for the COMSTAC members to consider under the advisory process. Statements may concern the issues mentioned above or additional issues that may be relevant for the U.S. commercial space transportation industry. Interested parties wishing to submit written statements should contact Susan Lender, DFO, (the Contact Person listed below) in writing (mail or email) by January 17, 2012, so that the information can be made available to COMSTAC members for their review and consideration before the January 24, 2012, teleconference. Written statements should be supplied in the following formats: one hard copy with original signature or one electronic copy via email.

This notice will be posted on the FAA Web site at http://www.faa.gov/go/ast.

Individuals who plan to participate and need special assistance should inform the Contact Person listed below in advance of the meeting.

FOR FURTHER INFORMATION CONTACT: Susan Lender (AST-5), Office of Commercial Space Transportation (AST), 800 Independence Avenue SW., Room 331, Washington, DC 20591, telephone (202) 267-8029; Email susan.lender@faa.gov. Complete information regarding COMSTAC is available on the FAA Web site at: http://www.faa.gov/about/office_org/headquarters_offices/ast/advisory_committee/.

Issued in Washington, DC.
George C. Nield,
Associate Administrator for Commercial Space Transportation.

[FR Doc. 2011-33353 Filed 12-28-11; 8:45 am]

BILLING CODE 4910-13-P